SMALL BUSINESS ADMINISTRATION

[Disaster Declaration #20703 and #20704; SOUTH CAROLINA Disaster Number SC-20012]

Presidential Declaration Amendment of a Major Disaster for the State of South Carolina

AGENCY: U.S. Small Business Administration.

ACTION: Amendment 10.

SUMMARY: This is an amendment of the Presidential declaration of a major disaster for the State of South Carolina (FEMA-4829-DR), dated September 29, 2024.

Incident: Hurricane Helene.

DATES: Issued on January 6, 2025.

Incident Period: September 25, 2024 through October 7, 2024.

Physical Loan Application Deadline Date: January 28, 2025.

Economic Injury (EIDL) Loan Application Deadline Date: June 30, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of South Carolina, dated September 29, 2024, is hereby amended to extend the deadline for filing applications for physical damages as a result of this disaster to January 28, 2025.

All other information in the original declaration remains unchanged.

(Catalog of Federal Domestic Assistance Number 59008)

Alejandro Contreras,
Acting Deputy Associate Administrator, Office of Disaster Recovery & Resilience.

[FR Doc. 2025-00420 Filed 1-10-25; 8:45 am]

BILLING CODE 8026-09-P